DEPARTMENT OF ENERGY

Federal Energy Regulatory Commission

[Docket No. CP05-2-000]

El Paso Natural Gas Company; Notice of Application

October 14, 2004.

Take notice that on October 5, 2004, El Paso Natural Gas Company (El Paso), Post Office Box 1087, Colorado Springs, Colorado 80944, filed in Docket No. CP05-2-000 an application pursuant to section 7(c) of the Natural Gas Act (NGA) and Part 157 of the Commission's regulations for an order granting a certificate of public convenience and necessity authorizing El Paso to acquire and convert a crude oil pipeline to a natural gas pipeline, the construction and operation of certain connection, extension, and miscellaneous appurtenant facilities, and the operation of the converted pipeline as a part of El Paso's existing interstate transmission system all as more fully set forth in the application which is on file with the Commission and open to public inspection. The filing may also be viewed on the Web at http://www.ferc.gov using the “eLibrary” link. Enter the docket number excluding the last three digits in the docket number field to access the document. For assistance, call (202) 502-3676 or TYY, (202) 502-8659.

Specifically, El Paso seeks authority to: (1) Acquire, convert and operate approximately 88 miles of 30-inch diameter crude oil pipeline which will extend from an interconnection with El Paso's system near Ehrenberg in La Paz County, Arizona through Riverside County, California to Cadiz in San Bernardino County, California; (2) construct and operate a 6.4 mile, 30-inch diameter pipeline from Cadiz to an interconnection with Mojave Pipeline Company in San Bernadino County; and (3) construct and operate various appurtenant facilities. El Paso estimates that the project will cost $73,557,000.

Any questions regarding the application should be directed to Robert T. Tomlinson, Director, El Paso Natural Company, Post Office Box 1087, Colorado Springs, Colorado 80944, at (719) 520-3788 or fax at (719) 667-7534 or Craig V. Richardson, Vice President and General Counsel, El Paso Natural Gas Company; Post Office Box 1087, Colorado Springs, Colorado, 80944 at (719) 520-4829 or fax at (719) 520-4898.

There are two ways to become involved in the Commission's review of this project. First, any person wishing to obtain legal status by becoming a party to the proceedings for this project should, on or before the comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

Persons who wish to comment only on the environmental review of this project, or in support of or in opposition to this project, should submit an original and two copies of their comments to the Secretary of the Commission. Environmental commenters will be placed on the Commission's environmental mailing list, will receive copies of the environmental documents, and will be notified of meetings associated with the Commission's environmental review process. Environmental commenters will not be required to serve copies of filed documents on all other parties. The Commission's rules require that persons filing comments in opposition to the project provide copies of their protests only to the applicant. However, the non-party commenters will not receive copies of all documents filed by other parties or issued by the Commission (except for the mailing of environmental documents issued by the Commission) and will not have the right to seek court review of the Commission's final order.

The Commission strongly encourages electronic filings of comments, protests, and interventions via the Internet in lieu of paper. See 18 CFR 385.2001(a)(1)(iii) and the instructions on the Commission's Web site (http://www.ferc.gov) under the “e-Filing” link.

Comment Date: 5 p.m. eastern time on November 4, 2004.

Magalie R. Salas,
Secretary.

[FR Doc. E4-2747 Filed 10-20-04; 8:45 am]

BILLING CODE 6717-01-P